SECURITIES AND EXCHANGE COMMISSION

[File No. 500-1]

In the Matter of Smart Ventures, Inc.; Order of Suspension of Trading

July 13, 2015.

It appears to the Securities and Exchange Commission that there is a lack of current and accurate information concerning the securities of Smart Ventures, Inc. (“Smart Ventures”) because of questions regarding the accuracy and completeness of assertions by Smart Ventures in reports posted on the OTC Link operated by OTC Markets Group, Inc. and in press releases. This includes questions about the accuracy of a report issued by Smart Ventures for the quarterly period ended March 31, 2015 and a press release issued on June 30, 2015 with respect to the company's business plans and activities, control persons, related party transactions and financial statements.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on July 13, 2015 through 11:59 p.m. EDT, on July 24, 2015.

By the Commission.
Jill M. Peterson,
Assistant Secretary.

[FR Doc. 2015-17445 Filed 7-13-15; 4:15 pm]

BILLING CODE 8011-01-P